DEPARTMENT OF ENERGY

Federal Energy Regulatory Commission

[Project No. 7153-018]

Consolidated Hydro New York, LLC; Notice of Application Tendered for Filing With the Commission and Soliciting Additional Study Requests and Establishing Procedural Schedule for Relicensing and a Deadline for Submission of Final Amendments

Take notice that the following hydroelectric application has been filed with the Commission and is available for public inspection.

a. Type of Application: New Major License.

b. Project No.: 7153-018.

c. Date Filed: April 29, 2022.

d. Applicant: Consolidated Hydro New York, LLC (Consolidated Hydro).

e. Name of Project: Victory Mills Hydroelectric Project (Victory Mills Project).

f. Location: The project is located on Fish Creek in the village of Victory in Saratoga County, New York. The project does not occupy any federal lands.

g. Filed Pursuant to: Federal Power Act, 16 U.S.C. 791(a)-825(r).

h. Applicant Contacts: Mr. Kevin M. Webb, Licensing Manager, Consolidated Hydro New York, LLC, 670 N Commercial Street, Suite 204, Manchester, NH 03101; Phone at (978) 935-6039 or email at kwebb@centralriverspower.com; and Mr. Curtis Mooney, Manager, Regulatory Compliance, Consolidated Hydro New York, LLC, 670 N Commercial Street, Suite 204, Manchester, NH 03101; Phone at (603) 774-0846 or email at cmooney@centralriverspower.com.

i. FERC Contact: Laurie Bauer at (202) 502-6519, or laurie.bauer@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: June 28, 2022.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Victory Mills Project (P-7153-018).

m. This application is not ready for environmental analysis at this time.

n. The Victory Mills Project includes: (1) A dam that consists of: (a) An approximately 150-foot-long concrete spillway varying in height from 4 to 6 feet with a crest elevation of 187.5 feet National Geodetic Vertical Datum of 1929 (NGVD29), and (b) a sluice gate section approximately 19 feet high and 40 feet long with four gated spillway bays, each with a sill elevation of 181 feet NGVD29 and containing a 7-foot-high by 8-foot-wide wooden timber gate; (2) a 4.3-acre reservoir with a gross storage capacity of approximately 18 acre-feet at the normal surface elevation of 187.5 feet NGVD29; (3) an intake channel feeding a 51-foot-long, 25-foot-high concrete intake structure; (4) an 8-foot-diameter, 300-foot-long steel penstock; (5) a 27-foot by 46-foot concrete powerhouse containing a single Kaplan turbine with an installed capacity of 1,656 kilowatts; (6) an approximately 30-foot-wide by 530-foot-long tailrace channel; (7) a 480-foot-long, 4.8-kilovolt transmission line; and (8) appurtenant facilities.

The Victory Mills Project operates in a run-of-river mode with an average annual generation of 6,073 megawatt-hours between 2011 and 2021.

o. A copy of the application can be viewed on the Commission's website at http://www.ferc.gov, using the “eLibrary” link. Enter the docket number, excluding the last three digits in the docket number field, to access the document (P-7153). For assistance, contact FERC at FERCOnlineSupport@ferc.gov, or call toll-free, (866) 208-3676 or (202) 502-8659 (TTY).

You may also register online at http://www.ferc.gov/docs-filing/esubscription.asp to be notified via email of new filings and issuances related to this or other pending projects. For assistance, contact FERC Online Support.

p. Procedural schedule: The application will be processed according to the following preliminary schedule. Revisions to the schedule will be made as appropriate.

Issue Deficiency Letter (if necessary)—July 2022

Request Additional Information—July 2022

Issue Acceptance Letter and Notice—October 2022

Issue Scoping Document 1 for comments—November 2022

Request Additional Information (if necessary)—November 2022

Issue Scoping Document 2—February 2023

Issue Notice of Ready for Environmental Analysis—February 2023

Final amendments to the application must be filed with the Commission no later than 30 days from the issuance date of the notice of ready for environmental analysis.

Dated: May 11, 2022.
Kimberly D. Bose,
Secretary.

[FR Doc. 2022-10601 Filed 5-17-22; 8:45 am]

BILLING CODE 6717-01-P